ENVIRONMENTAL PROTECTION AGENCY

[FRL-12580-01-ORD]

Ambient Air Monitoring Reference and Equivalent Methods; Designation of Two New Equivalent Methods

AGENCY: Environmental Protection Agency (EPA).

ACTION: Notice of the designation of two new equivalent methods for monitoring ambient air quality.

SUMMARY: Notice is hereby given that the Environmental Protection Agency (EPA) has designated one new equivalent method for measuring concentrations of PM2.5 and one new equivalent method for measuring PM10-2.5 in ambient air.

FOR FURTHER INFORMATION CONTACT: Robert Vanderpool, Air Methods and Characterization Division (MD-D205-03), Center for Environmental Measurement and Modeling, U.S. EPA, Research Triangle Park, North Carolina 27711. Phone: 919-541-7877. Email: Vanderpool.Robert@epa.gov.

SUPPLEMENTARY INFORMATION: In accordance with regulations at 40 CFR part 53, the EPA evaluates various methods for monitoring the concentrations of those ambient air pollutants for which EPA has established National Ambient Air Quality Standards (NAAQS) as set forth in 40 CFR part 50. Monitoring methods that are determined to meet specific requirements for adequacy are designated by the EPA as either reference or equivalent methods (as applicable), thereby permitting their use under 40 CFR part 58 by States and other agencies for determining compliance with the NAAQS. A list of all reference or equivalent methods that have been previously designated by EPA may be found at http://www.epa.gov/ttn/amtic/criteria.html.

The EPA hereby announces the designation of one new equivalent method for measuring concentrations of PM2.5 in ambient air. This designation is made under the provisions of 40 CFR part 53, as amended on October 26, 2015 (80 FR 65291-65468).

This new equivalent method for PM2.5 is an automated method (monitor) utilizing the measurement principle based on beta attenuation analysis. This newly designated equivalent method is identified as follows:

EQPM-1224-264, “DKK-TOA Models FPM-377C(S), FPM-377C, Particulate Monitor,” for monitoring PM2.5 in Ambient Air (beta attenuation monitor), configured with a standard EPA PM10 inlet (meeting 40 CFR part 50, appendix L specifications) and with either; a URG-2000-30EGN PM2.5 cyclone, or BGI VSCC™ Very Sharp Cut Cyclone particle size separator, or Tisch TE-PM2.5C cyclone for PM2.5, or other PM2.5 separator that meets 40 CFR 50 part, appendix L, and operated with Software Firmware Version FPM4-749840 or later, Corrected Slope Factor (FACT SLOPE) set to 1.242, Corrected Zero Value (FACT ZERO) set to 0, and with or without any of the following options: Auto Check and Serial Recorder. This designation applies to PM2.5 measurements only.

This application for an equivalent method determination for this PM2.5 method was received by the Office of Research and Development on October 22, 2023. This monitor is commercially available from the applicant, DKK-TOA Corporation 29-10, 1-Chome, Takadanobaba, Shinjuku-ku Tokyo 169-8648, Japan.

The EPA hereby announces the designation of one new equivalent method for measuring concentrations of PM10-2.5 in ambient air. This designation is made under the provisions of 40 CFR part 53, as amended on October 26, 2015 (80 FR 65291-65468).

This new equivalent method for PM10-2.5 is an automated method (monitor) utilizing the measurement principle based on beta attenuation analysis. This newly designated equivalent method is identified as follows:

EQPM-1224-265, “DKK-TOA Models FPM-377C(S), FPM-377C, Particulate Monitor Pair,” for the determination of coarse particulate matter as PM10-2.5, consisting of a pair of DKK-TOA monitors, with one being the approved PM10 monitors (EQPM-0905-156) and the other being the approved PM2.5 monitors (designation EQPM-1224-264). The monitors are collocated with 1-4 meters of one another and are concurrently operated. Both monitors are operated in accordance with their associated Operating Manual. This designation applies to PM10-2.5 measurements only.

This application for an equivalent method determination for this PM10-2.5 method was received by the Office of Research and Development on December 23, 2024. This monitor is commercially available from the applicant, DKK-TOA Corporation 29-10, 1-Chome, Takadanobaba, Shinjuku-ku Tokyo 169-8648, Japan.

Representative test monitors were tested in accordance with the applicable test procedures specified in 40 CFR part 53, as amended on October 26, 2015. After reviewing the results of those tests and other information submitted by the applicant, EPA has determined, in accordance with 40 CFR part 53, that these methods should be designated as equivalent methods.

As designated equivalent methods, these methods are acceptable for use by states and other air monitoring agencies under the requirements of 40 CFR part 58, Ambient Air Quality Surveillance. For such purposes, these methods must be used in strict accordance with the operation or instruction manual associated with these methods and subject to any specifications and limitations (e.g., configuration or operational settings) specified in the designated method descriptions (see the identification of the methods above).

Use of these methods should also be in general accordance with the guidance and recommendations of applicable sections of the “Quality Assurance Handbook for Air Pollution Measurement Systems, Volume I,” EPA/600/R-94/038a and “Quality Assurance Handbook for Air Pollution Measurement Systems, Volume II, Ambient Air Quality Monitoring Program,” EPA-454/B-13-003, (both available at https://www.epa.gov/ttn/amtic/qalist.html). Provisions concerning modification of such methods by users are specified under section 2.8 (Modifications of Methods by Users) of appendix C to 40 CFR part 58.

Consistent or repeated noncompliance with any of these conditions should be reported to: Director, Air Methods and Characterization Division (MD-D205-03), Center for Environmental Measurement and Modeling, U.S. Environmental Protection Agency, Research Triangle Park, North Carolina 27711.

Designation of these equivalent methods is intended to assist the States in establishing and operating their air quality surveillance systems under 40 CFR part 58. Questions concerning the commercial availability or technical aspects of these methods should be directed to the applicant.

Alice Gilliland,
Acting Director, Center for Environmental Measurement and Modeling.

[FR Doc. 2025-05923 Filed 4-4-25; 8:45 am]

BILLING CODE P